DEPARTMENT OF TRANSPORTATION

Federal Highway Administration

Environmental Impact Statement; Martin County, FL

AGENCY: Federal Highway Administration (FHWA), DOT.

ACTION: Notice of intent.

SUMMARY: The FHWA is issuing this notice to advise the public that an Environmental Impact Statement (EIS) will be prepared for a proposed highway project in Martin County, Florida.

FOR FURTHER INFORMATION CONTACT: Patrick A. Bauer, Program Operation Engineer, Federal Highway Administration, 227 North Bronough Street, Tallahassee, Florida 32301, Telephone: (850) 942-9650, Extension 3035.

SUPPLEMENTARY INFORMATION: The FHWA, in cooperation with the Florida Department of Transportation will prepare an EIS for a proposal to provide an additional crossing of the St. Lucie River in Martin County, Florida. The proposed improvements will involve utilizing existing roadways as footprints for a new corridor. Improvements to the corridor are considered necessary to provide for existing and projected traffic demand.

Alternatives under consideration include (1) taking no action; (2) widening the existing State Road 714 corridor to a six- or eight-lane roadway; (3) an additional four-lane corridor; or (4) two additional two-lane corridors.

Letters describing the proposed action and soliciting comments will be sent to appropriate Federal, State, and local agencies, and to private organizations and citizens who have expressed interest in the proposal. A series of public meetings will be held in Martin County between October 2000 and January 2001. In addition, a public hearing will be held. Public notice will be given of the time and place of the meetings and hearings. The Draft EIS will be made available for public and agency review and comment. A formal scoping meeting is planned in the project vicinity site during the latter part of 2000.

To ensure that the full range of issues related to the proposed action are addressed and all significant issues identified, comments and suggestions are invited from all interested parties. Comments or questions concerning this proposed action and the EIS should be directed to the FHWA at the address provided above.

(Catalog of Federal Domestic Assistance Program Number 20.205, Highway Research, Planning and Construction. The regulations implementing Executive Order 12372 regarding inter-governmental consultation on Federal programs and activities apply to this program.)

Issued on: July 6, 2000.
Patrick A. Bauer P.E.,
Program Operations Engineer, Tallahassee, Florida.

[FR Doc. 00-17954 Filed 7-14-00; 8:45 am]

BILLING CODE 4910-22-M